DEPARTMENT OF TRANSPORTATION

Coast Guard

[CGD17-02-005]

Cook Inlet Regional Citizen's Advisory Committee; Charter Renewal

AGENCY: Coast Guard, DOT.

ACTION: Notice of recertification.

SUMMARY: The Coast Guard has recertified the Cook Inlet Regional Citizen's Advisory Council for the period covering November 27, 2002 through August 31, 2003. Under the Oil Terminal and Oil Tanker Environmental Oversight Act of 1990, the Coast Guard may certify on an annual basis an alternative voluntary advisory group in lieu of a regional citizens' advisory council for Cook Inlet, Alaska. This advisory group monitors the activities of terminal facilities and crude oil tankers under the Cook Inlet Program established by the statute.

DATES: The Cook Inlet Regional Citizen's Advisory Council is certified through August 31, 2003.

ADDRESSES: You may request a copy of the recertification letter by writing to Commander, Seventeenth Coast Guard District(mor), P.O. Box 25517, Juneau, AK 99802-5517; or by calling 907-463-2807.

FOR FURTHER INFORMATION CONTACT: Lieutenant Michael Patterson, Seventeenth Coast Guard District(mor), telephone 907-463-2807.

SUPPLEMENTARY INFORMATION:

Background And Purpose

On November 27, 2002, the Coast Guard recertified the Cook Inlet Regional Citizen's Advisory Council (CIRCAC) through August 31, 2003. Under the Oil Terminal and Oil Tanker Environmental Oversight Act of 1990 (33 U.S.C. 2732), the Coast Guard may certify, on an annual basis, an alternative voluntary advisory group in lieu of a regional citizens' advisory council for Cook Inlet, Alaska. This advisory group monitors the activities of terminal facilities and crude oil tankers under the Cook Inlet Program established by Congress, 33 U.S.C. 2732(b).

On September 16, 2002, the Coast Guard published a notice of policy on revised recertification procedures for alternative voluntary advisory groups in lieu of councils at Prince William Sound and Cook Inlet, AK (67 FR 58440, 58441). This revised policy indicated that applicants seeking recertification in 2002 need only submit a streamlined application and public comments would not be solicited prior to recertification.

Upon review of the information submitted by CIRCAC as part of the certification package, it was noted that in an audit of the CIRCAC's financial statements the auditor found that CIRCAC's by-laws and corporate structure aligned with the basic structure for non-profit corporations. The auditor also noted that CIRCAC has proper expenditure measures in place and employs contemporary information technology practices. The auditor performing the audit made a recommendation for improving the financial management of the organization. In particular, the auditor recommended that CIRCAC prepare formal, written policies and procedures for its accounting practices. The Coast Guard agrees and recommends that CIRCAC implement the auditor's recommendation.

Dated: February 6, 2003.
James W. Underwood,
Rear Admiral, U.S. Coast Guard, Commander, Seventeenth Coast Guard District.

[FR Doc. 03-4764 Filed 2-27-03; 8:45 am]

BILLING CODE 4910-15-P